DEPARTMENT OF HEALTH AND HUMAN SERVICES

Centers for Disease Control and Prevention

[30Day-08-07AS]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Focus Group Testing and Survey on Radiological Event Messages for Public Health Workers—New—National Center for Environmental Health (NCEH), Centers for Disease Control and Prevention (CDC).

Background and Brief Description

In January 2003, CDC held a roundtable to specifically address communications needs likely to arise in the aftermath of a terrorist event involving mass casualties. Hospital administrators and clinicians, public health practitioners, and emergency planners emphasized the gaps in their training and in their knowledge of how to respond to nuclear or radiological events.

Concurrent with this, CDC began working with the Association of Schools of Public Health (ASPH) to assess knowledge, attitudes, and behaviors related to preparedness for a radiological or nuclear terrorist event in the United States. The strong and clear message delivered to the CDC was that both the professional (e.g., clinicians and public health workers) and the lay American public were unprepared to respond to such an event (Becker 2004). Specifically, clinicians who participated in the research acknowledged a lack of training and preparedness, a potential unwillingness to treat patients if they are perceived as radiologically contaminated, and concerns about public panic and consequent overwhelming of hospitals and other clinical systems. More importantly, findings from the meeting revealed a critical need to assess communication preparedness among public health workers in relation to radiological emergencies.

This proposal addresses the need for the development of clear communication messages in the event of a radiological incident. As part of a cooperative agreement, CDC has contracted with the National Public Health Information Coalition (NPHIC) to collect data from public health workers in 6 states—California, Iowa, Kansas, Michigan, North Carolina and South Carolina—to evaluate a set of messages that have been developed by CDC for public health workers to use before, during and after a radiological event. The 5 communication messages focus on the main concerns expressed by representatives from these 6 states and other participants in audience research. The participating states volunteered for this project. Public health workers referenced in this proposal are nurses, physicians, clinical technicians, administrative, management and support staff and epidemiologists.

CDC's primary goal is to protect the health and safety of the public. Since public health workers are usually first responders in various capacities in the event of a radiological emergency, the need to develop time-sensitive and consistent communication messages is vital. Developing clear messages that can be used by public health workers as an integral part of their radiological emergency plan is consistent with this goal. These message concepts, which range from how to protect the worker and family to the role of the public health worker during a radiological emergency will serve as a reference tool and guidance for state health departments in the event of such situations.

This proposal seeks approval to obtain data using two methods, focus group testing and electronic surveys to achieve greater results. Focus group testing will be conducted to obtain qualitative data that will be gathered through a series of six focus groups of public health workers, one in each participating state. The focus groups will consist of 12 participants and will be about 1½ hours in length. The focus group testing will assess attitudes, knowledge and emotional responses. Of particular interest will be how the participants might react to radiological concepts pertaining to their roles as public health workers and scenarios that will be included in the messages. Quantitative data will be obtained through a one-time written electronic survey to randomly selected public health workers in the six states. The participants who will be participating in the electronic survey will not be included in the focus group testing.

CDC proposes to use this information to develop a final set of communication messages. The intent is for the messages to be disseminated using various methods and to provide a more consistent platform for states to respond to radiological emergencies. This research will help refine messages that have the ability to increase the percentage of workers who present to deliver services in a radiological emergency. Also, as a result of the study, CDC will have a set of tested public health messages that can allow public health workers to speak with one voice to the general public in a radiological emergency. In addition, the development of these messages will foster collaboration among the states and CDC.

Therefore, CDC requests approval to test one set of five messages among public health workers using focus group testing and electronic surveys. The surveys and focus groups will include questions about how believable the messages are, what would make them more believable, the need for additional information for a clearer understanding of the messages, how and if the messages help them to feel safe, and what would make them easier to understand.

There is no cost to the respondents other than their time. The total estimated annualized burden hours are 782 hours.

Estimated Annualized Burden Hours
Type of respondent | Form of collecting information | Number of respondents | Number of responses per respondent | Average burden per response (in hours)
Public Health Workers | Focus Groups | 72 | 1 | 90/60
Public Health Workers | E-mail Surveys | 2022 | 1 | 20/60

Dated:January 16, 2008.
Maryam I. Daneshvar,
Acting Reports Clearance Officer, Centers for Disease Control and Prevention.

[FR Doc. E8-1233 Filed 1-24-08; 8:45 am]

BILLING CODE 4163-18-P